DEPARTMENT OF COMMERCE

International Trade Administration

(A-401-806)

Amended Final Results of the Antidumping Duty Administrative Review: Stainless Steel Wire Rod from Sweden

AGENCY: Import Administration, International Trade Administration, Department of Commerce.

EFFECTIVE DATE: May 9, 2007.

FOR FURTHER INFORMATION CONTACT: Brian Smith, Import Administration, International Trade Administration, U.S. Department of Commerce, 14th Street and Constitution Avenue, N.W., Washington, D.C. 20230; telephone: (202) 482-1766.

SUPPLEMENTARY INFORMATION:

Amendment to Final Results

In accordance with section 751(a) of the Tariff Act of 1930, as amended (the “Act”), on April 10, 2007, the Department published the final results of the 2004-2005 administrative review of the antidumping duty order on stainless steel wire rod (“SSWR”) from Sweden, in which we determined that the respondent, Fagersta Stainless AB (“FSAB”)¹, sold subject merchandise to the United States at less than normal value during the period of review (“POR”).² See Stainless Steel Wire Rod from Sweden: Final Results of Antidumping Duty Administrative Review, 72 FR 17834 (April 10, 2007) (“Final Results”). On April 16, 2007, we received an allegation, timely filed pursuant to section 751(h) of the Act and 19 CFR 351.224(c)(2), from FSAB that the Department made a ministerial error in the Final Results. The petitioners³ did not comment on the alleged ministerial error.

¹ In the final results of this review, we determined it appropriate to treat FSAB and its affiliates, AB Sandvik Materials Technology (“SMT”) and Kanthal AB (“Kanthal”), as one entity for margin calculation purposes because they met the regulatory criteria for collapsing affiliated producers.

² The POR of this review is September 1, 2004, through August 31, 2005.

³ The petitioners include the following companies: Carpenter Technology Corporation; Crucible Specialty Metals Division, Crucible Materials Corporation; and Electroalloy Corporation, a Division of G.O. Carlson, Inc.

After analyzing FSAB's submission, we have determined, in accordance with section 751(h) of the Act and 19 CFR 351.224, that we made a ministerial error in our final margin calculation for FSAB. Specifically, although we correctly converted FSAB's U.S. affiliate's reported U.S. inventory carrying costs as intended, we inadvertently did not utilize the correctly converted U.S. inventory carrying costs in the final margin calculation. For a detailed discussion of the ministerial error, as well as the Department's analysis, see the memorandum to James P. Maeder, Jr., Office Director, from the SSWR Team, dated May 2, 2007.

Therefore, in accordance with section 751(h) of the Act and 19 CFR 351.224(e), we are amending the final results of the 2004-2005 antidumping duty administrative review of the order on SSWR from Sweden. The revised dumping margin is as follows:

Manufacturer/Exporter | Original Final Margin Percentage | Revised Final Margin Percentage
Fagersta Stainless AB/AB Sandvik | 20.42 | 19.36
Materials Technology/Kanthal AB

The Department will disclose calculations performed for the amended final results to the parties within five days of the date of publication of this notice in accordance with 19 CFR 351.224(b).

Assessment and Cash Deposit Rates

The Department will determine, and U.S. Customs and Border Protection (“CBP”) shall assess, antidumping duties on all appropriate entries based on the amended final results. For details on the calculation of importer-specific assessment rates, see Final Results, 72 FR 178347. The Department will issue appropriate assessment instructions directly to CBP 15 days after the date of publication of these amended final results of review. The Department will also notify CBP of the revised cash deposit rate for FSAB, effective upon publication of these amended final results of review. This cash deposit requirement shall remain in effect until further notice.

These amended final results of this administrative review and this notice are issued and published in accordance with sections 751(h) and 777(i) of the Act and 19 CFR 351.224(e).

Dated: May 2, 2007.
David M. Spooner,
Assistant Secretary for Import Administration.

[FR Doc. E7-8905 Filed 5-8-07; 8:45 am]

BILLING CODE 3510-DS-S